DEPARTMENT OF THE INTERIOR

Fish and Wildlife Service

50 CFR Part 16

RIN 1018-AT28

Review of Information Concerning Boiga Snakes

AGENCY: Fish and Wildlife Service, Interior.

ACTION: Notice of inquiry.

SUMMARY: The U.S. Fish and Wildlife Service is reviewing available economic and biological information on the Boiga genus of snakes for possible addition of the 28 species of snakes in the genus to the list of injurious wildlife under the Lacey Act. The importation and introduction of Boiga snakes into the natural ecosystems of the United States may pose a threat to agriculture, horticulture, forestry, the health and welfare of human beings, or the welfare and survival of wildlife and wildlife resources in the United States. Listing Boiga snakes as injurious would prohibit their importation into, or transportation between, the continental United States, the District of Columbia, Hawaii, the Commonwealth of Puerto Rico, or any territory or possession of the United States, with limited exceptions. This notice seeks comments from the public to aid in determining if a proposed rule is warranted.

DATES: Comments must be submitted on or before November 12, 2003.

ADDRESSES: Comments may be mailed or sent by fax to the Chief, Division of Environmental Quality, U.S. Fish and Wildlife Service, 4401 North Fairfax Drive, Suite 322, Arlington, VA 22203; fax (703) 358-1800. You may send comments by electronic mail (email) to: Boiga@fws.gov. See the Public Comments Solicited section below for file format and other information about electronic filing.

FOR FURTHER INFORMATION CONTACT: Kari Duncan, Division of Environmental Quality, Branch of Invasive Species at (703) 358-2464 or kari_duncan@fws.gov.

SUPPLEMENTARY INFORMATION: On May 28, 2003, the U.S. Fish and Wildlife Service received a petition from the North American Brown Tree Snake Control Team requesting that the entire Boiga genus of snakes be considered for inclusion in the injurious wildlife regulations pursuant to the Lacey Act. Brown tree snakes, Boiga irregularis, are already listed as an injurious wildlife species under the Lacey Act. The petitioners requested that we list the entire genus because many of the species are similar in appearance and could be misidentified upon inspection at importation, resulting in the accidental introduction of brown tree snakes. The petitioners also noted, “many of the Boiga species have similar ecologies, so it is not just the brown tree snake that has the potential to become a problematic invasive species in the United States.”

There are 28 species of snakes in the Boiga genus. Snakes in the Boiga genus are native to Southeast Asia, China, India, Afghanistan, Malaysia, Indonesia, Oceania, Northeast Australia, and eastern equatorial Africa. Boiga irregularis was accidentally introduced in Guam and has become established. There have been other accidental introductions into Hawaii, Alaska, and Texas, but Boiga snakes are not established in those locations.

Based on U.S. Fish and Wildlife Law Enforcement importation declaration data, there were 1,850 snakes in the Boiga genus imported into the United States during the six and one-half year period from January 1997 to June 2003. The declared value of those 1,850 snakes was $16,495. Most of the snakes were imported from Indonesia and most are used in the pet trade.

The Lacey Act (18 U.S.C. 42) and its implementing regulations in 50 CFR part 16 restrict the importation into or the transportation between the continental United States, the District of Columbia, Hawaii, the Commonwealth of Puerto Rico, or any territory or possession of the United States of any species of wildlife, or eggs thereof, determined to be injurious or potentially injurious to certain interests, including those of agriculture, horticulture, forestry, the health and welfare of human beings, and the welfare and survival of wildlife and wildlife resources in the United States. However, injurious wildlife may be imported by permit for zoological, educational, medical, or scientific purposes in accordance with permit regulations at 50 CFR 16.22, or by Federal agencies without a permit solely for their own use. If the process initiated by this notice results in the addition of the Boiga genus of snakes to the list of injurious wildlife contained in 50 CFR part 16, their importation into the United States would be prohibited except under the conditions, and for the purposes, described above.

This notice solicits economic, biological, or other information concerning Boiga snakes. The information will be used to determine if the species is a threat, or potential threat, to those interests of the United States delineated above, and thus warrants addition to the list of injurious wildlife in 50 CFR 16.13.

Public Comments Solicited

Please send comments to Chief, Division of Environmental Quality, U.S. Fish and Wildlife Service, 4401 North Fairfax Drive, Suite 322, Arlington, VA 22030. Comments may be hand-delivered to the above address or faxed to (703) 358-1800. If you submit comments by e-mail, please submit comments as an ASCII file format and avoid the use of special characters and encryption. Please include “Attn: [RIN 1018-AT28]” and your name and return address in your e-mail message. Please note that this email address will be closed at the termination of this public comment period.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Authority: This notice is issued under the authority of the Lacey Act (18 U.S.C. 42).

Dated: September 2, 2003.
Craig Manson,
Assistant Secretary for Fish, Wildlife and Parks.

[FR Doc. 03-23286 Filed 9-11-03; 8:45 am]

BILLING CODE 4310-55-P